DEPARTMENT OF HEALTH AND HUMAN SERVICES

National Institutes of Health

National Institute of Diabetes and Digestive and Kidney Diseases; Amended Notice of Meeting

Notice is hereby given of a change in the meeting of the National Institute of Diabetes and Digestive and Kidney Diseases Special Emphasis Panel, June 11, 2014, 11:00 a.m. to June 11, 2014, 01:00 p.m., National Institutes of Health, Two Democracy Plaza, 6707 Democracy Boulevard, Bethesda, MD 20892 which was published in the Federal Register on April 09, 2014, 79 FR 19637.

This meeting will be held on June 4, 2014 from 11:00 a.m. until 01:00 p.m. at the National Institutes of Health, Two Democracy Plaza, 6707 Democracy Boulevard, Bethesda, MD 20892. The meeting is closed to the public.

Dated: April 11, 2014.
David Clary,
Program Analyst, Office of Federal Advisory Committee Policy.

[FR Doc. 2014-08675 Filed 4-16-14; 8:45 am]

BILLING CODE 4140-01-P